DEPARTMENT OF COMMERCE

National Oceanic and Atmospheric Administration

RIN 0648-XC095

Marine Mammals; File No. 17278

AGENCY: National Marine Fisheries Service (NMFS), National Oceanic and Atmospheric Administration (NOAA), Commerce.

ACTION: Notice; issuance of permit.

SUMMARY: Notice is hereby given that a permit has been issued to James Shine, Ph.D., Harvard University School of Public Health, 401 Park Drive, 404H West, Boston, MA 02215, to import and receive marine mammal parts for scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

FOR FURTHER INFORMATION CONTACT: Laura Morse or Jennifer Skidmore, (301) 427-8401.

SUPPLEMENTARY INFORMATION: On May 30, 2012 notice was published in the Federal Register (77 FR 31835) that a request for a permit to import and receive specimens for scientific research had been submitted by the above-named applicant. The requested permit has been issued under the authority of the Marine Mammal Protection Act of 1972, as amended (16 U.S.C. 1361 et seq.), and the regulations governing the taking and importing of marine mammals (50 CFR part 216).

The permit authorizes the import and receipt of parts from subsistence-collected long-finned pilot whales (Globicephala melas) archived at the Faroese Museum of Natural History, Foroe Islands. Parts will be analyzed to assess the levels and geographic source of mercury. No animals would be killed for the purpose of providing samples under this permit. The permit is valid for five years from the date of issuance.

In compliance with the National Environmental Policy Act of 1969 (42 U.S.C. 4321 et seq.), a final determination has been made that the activity proposed is categorically excluded from the requirement to prepare an environmental assessment or environmental impact statement.

Dated: August 29, 2012.
P. Michael Payne,
Chief, Permits and Conservation Division, Office of Protected Resources, National Marine Fisheries Service.

[FR Doc. 2012-21980 Filed 9-5-12; 8:45 am]

BILLING CODE 3510-22-P